DEPARTMENT OF LABOR

Employment and Training Administration

[TA-W-85,533]

Modine Manufacturing Company, Including On-Site Leased Workers From Masterson, Working World, Aerotek, Reemploy (Seek Professionals, LLC), and Lucas Group, Ringwood, Illinois; Amended Certification Regarding Eligibility To Apply for Worker Adjustment Assistance

In accordance with Section 223 of the Trade Act of 1974, as amended (“Act”), 19 U.S.C. 2273, the Department of Labor issued a Certification of Eligibility to Apply for Worker Adjustment Assistance on October 2, 2014, applicable to workers of Modine Manufacturing Company, Ringwood, Illinois, including on-site leased workers from Masterson, Working World, and Aerotek. The Department's notice of determination was published in the Federal Register on October 2, 2014 (79 FR 59518).

At the request of a company official, the Department reviewed the certification for workers of the subject firm. The workers were engaged in the production of aluminum oil coolers, condensers, and radiators for automotive, on-highway, off-highway, recreational vehicles, military and heavy duty semi-trucks.

The company reports that workers leased from ReEmploy (SEEK Professionals, LLC, and Lucas Group were employed on-site at the Ringwood, Illinois location of Modine Manufacturing Company. The Department has determined that these workers were sufficiently under the control of the subject firm to be considered leased workers.

Based on these findings, the Department is amending this certification to include workers leased from ReEmploy (SEEK Professionals, LLC, and Lucas Group working on-site at the Ringwood, Illinois location of Modine Manufacturing.

The amended notice applicable to TA-W-85,533 is hereby issued as follows:

“All workers of Masterson, Working World, Aerotek, ReEmploy (SEEK Professionals, LLC), and Lucas Group, reporting to Modine Manufacturing Company, Ringwood, Illinois, who became totally or partially separated from employment on or after September 11, 2013, through October 2, 2016, and all workers in the group threatened with total or partial separation from employment on the date of certification through two years from the date of certification, are eligible to apply for adjustment assistance under Chapter 2 of Title II of the Trade Act of 1974, as amended.”

Michael W. Jaffe,
Certifying Officer, Office of Trade Adjustment Assistance.

[FR Doc. 2015-15965 Filed 6-29-15; 8:45 am]

BILLING CODE 4510-FN-P